DEPARTMENT OF TRANSPORTATION

Federal Aviation Administration

14 CFR Part 121

[Docket No. FAA-2002-14081; Notice No. 03-02]

RIN 2120-AH67

Transponder Continuous Operation; Extension of Comment Period

AGENCY: Federal Aviation Administration (FAA), DOT.

ACTION: Notice of proposed rulemaking (NPRM); extension of comment period.

SUMMARY: This action extends the comment period for an NPRM that was published on January 14, 2003. In that document, the FAA proposed to revise the instrument and equipment requirements for airplanes operated in domestic, flag, and supplemental operations to require affected airplanes to have the capability to help assure immediate activation of the designated air traffic control (ATC) hijack alert code, and continuous transmission of that code to ATC during a hijack situation. This extension is a result of a request from the Air Transport Association to extend the comment period to the proposal.

DATES: Comments must be received on or before April 18, 2003.

ADDRESSES: Comments on this document should be mailed or delivered, in duplicate, to: U.S. Department of Transportation Dockets, Docket No. FAA-2002-14081, 400 Seventh Street, SW., Room Plaza 401, Washington, DC 20590. Comments may be filed and examined in Room Plaza 401 between 10 a.m. and 5 p.m. weekdays, except Federal holidays. Comments also may be sent electronically to the Dockets Management System (DMS) at the following Internet address: http://dms.dot.gov at any time. Commenters who wish to file comments electronically, should follow the instructions on the DMS Web site.

FOR FURTHER INFORMATION CONTACT: Richard E. Jennings, Aircraft Certification Service, Aircraft Engineering Division, AIR-130, Federal Aviation Administration, c/o Atlanta ACO, 1895 Phoenix Boulevard, Suite 450, Atlanta, GA 30349; telephone (770) 703-6090; facsimile (770) 703-6055, e-mail Richard.Jennings@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the web address in the ADDRESSES section.

Anyone is able to search the electronic form of all comments received into any of our dockets by the name of the individual submitting the comment (or signing the comment, if submitted on behalf of an association, business, labor union, etc.). You may review DOT's complete Privacy Act statement in the Federal Register published on April 11, 2000 (Volume 65, Number 70; Pages 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Background

On January 8, 2003, the Federal Aviation Administration (FAA) issued Notice No. 03-02, Transponder Continuous Operation (68 FR 1942, January 14, 2003). Comments to that document were to be received on or before March 17, 2003.

By letter dated March 11, 2003, the Air Transport Association requested that the FAA extend the comment period for Notice No. 03-02 for 30 days. ATA stated that after publication of the NPRM, the FAA issued a Notice of Proposed Policy regarding Proposed Policy Statement No. ANM-03-111-12 (the Policy). The Policy proposed technical guidance material for compliance with the technical requirements of the NPRM. In order to ensure ATA's comments to the NPRM take into consideration the complex technical and compliance issues raised in the Policy and the NPRM, ATA requested an extension of the NPRM comment period.

Extension of Comment Period

In accordance with § 11.47(c) of Title 14, Code of Federal Regulations, the FAA has reviewed the petitions made by ATA for extension of the comment period to Notice No. 03-02. ATA has shown a substantive interest in the proposed rule and good cause for the extension. The FAA also has determined that extension of the comment period is consistent with the public interest, and that good cause exists for taking this action.

Accordingly, the comment period for Notice No. 03-02 is extended until April 18, 2003.

Issued in Washington, DC on March 13, 2003.
Ronald T. Wojnar,
Acting Director, Aircraft Certification Service.

[FR Doc. 03-6511 Filed 3-14-03; 11:44 am]

BILLING CODE 4910-13-P